DEPARTMENT OF COMMERCE

International Trade Administration

[A-201-817]

Oil Country Tubular Goods from Mexico: Extension of Time Limit for Final Results of Antidumping Duty Administrative Review

AGENCY: Import Administration, International Trade Administration, Department of Commerce.

EFFECTIVE DATE: January 8, 2001.

FOR FURTHER INFORMATION CONTACT: Phyllis Hall at (202) 482-1398 or Dena Aliadinov at (202) 482-2667, Import Administration, International Trade Administration, U.S. Department of Commerce, 14th Street and Constitution Ave, NW, Washington, DC 20230.

SUPPLEMENTARY INFORMATION:

Statutory Time Limits

Section 751(a)(3)(A) of the Tariff Act of 1930, as amended (“the Act”), requires the Department of Commerce (“the Department”) to make a preliminary determination within 245 days after the last day of the anniversary month of an order for which a review is requested, and a final determination within 120 days after the date on which the preliminary determination is published. However, if it is not practicable to complete the review within these time periods, section 751(a)(3)(A) of the Act allows the Department to extend the time limit for the preliminary determination to a maximum of 365 days and for the final determination to 180 days (or 300 days if the Department does not extend the time limit for the preliminary determination) from the date of publication of the preliminary determination.

Background

On August 31,1999, Tubos de Acero de Mexico, S.A. de C.V. (“TAMSA”) and Hylsa S.A. de C.V. (“Hylsa”) requested that the Department conduct an administrative review of the antidumping duty order on oil country tubular goods (“OCTG”) from Mexico. The Department initiated this review on September 24, 1999. See 64 FR 53318 (October 1, 1999). On September 12, 2000, the Department published the preliminary results of the review in the Federal Register (65 FR 54998). The final results are due no later than January 10, 2001.

Extension of Time Limit for Preliminary Results of Review

We determine that it is not practicable to complete the final results of this review within the original time limits mandated by section 751 (a)(3)(A) of the Act. The Department is therefore extending the time limit for completion of the final results until no later than March 12, 2001. See Decision Memorandum from Richard Weible to Joseph A. Spetrini, dated December 29, 2000, which is on file in the Central Records Unit, Room B-099 of the main Commerce building.

This extension of the time limit is in accordance with section 751 (a)(3)(A) of the Act and 19 CFR 351.213(h)(2).

Dated: December 29, 2000.
Joseph A. Spetrini,
Deputy Assistant Secretary, Enforcement Group III.

[FR Doc. 01-453 Filed 1-5-01; 8:45 am]

BILLING CODE 3510-DS-P